DEPARTMENT OF THE INTERIOR

National Park Service

Sequoia and Kings Canyon National Parks; Receipt of Application for Telecommunication Site

AGENCY: National Park Service, Sequoia and Kings Canyon National Parks, Interior

ACTION: Notice.

SUMMARY: (Authorities: 47 U.S.C. 332 note (Telecommunications Act of 1996, Section 704(c)); 16 U.S.C. 5; other applicable authorities and National Park Service (NPS) Director's Order 53) Sequoia and Kings Canyon National Parks has received an application from Verizon Wireless to construct an eighty foot tall, cellular tower with associated support structures and equipment. The location of the proposed telecommunication site is Park Ridge, near Grant Grove within Kings Canyon National Park. Park Ridge is an established telecommunications site for Sequoia and Kings Canyon National Parks. Current structures on Park Ridge include: two concrete block structures containing NPS and U.S. Forest Service (USFS) communications equipment with power generators; a twenty foot fire lookout tower; two forty foot lattice towers with NPS and USFS telecommunications equipment; and a thirty foot tower on the NPS communications building supporting a passive reflector used for landline service operated by Verizon California.

The proposed Verizon telecommunication site may include a tower approximately 80 feet tall, an equipment building and necessary utilities. The staff at Sequoia and Kings Canyon National Parks is currently evaluating the proposal and conducting a review and analysis pursuant to the National Environmental Policy Act (NEPA), the National Historic Preservation Act, The Telecommunications Act of 1996, and National Park Service requirements, policy and regulations. Once completed the NEPA analysis including the effects, if any, on cultural resources will be available for public review.

DATES: Review and analysis pursuant to NEPA and the National Historic Preservation Act, initiated in December of 2008 is currently being conducted by Sequoia and Kings Canyon National Parks and will be completed after May 1, 2009.

ADDRESSES: Comments on the proposal may be mailed to the park, Sequoia and Kings Canyon National Park, Planning and Compliance Office, 47050 Generals Highway, Three Rivers, CA 93271 or e-mailed to seki_planning@nps.gov.

Copies of the completed NEPA analysis will be available at the Office of the Superintendent Sequoia and Kings Canyon National Parks, online at the Web site http://parkplanning.gov.nps/seki, or can be requested by writing to Sequoia and Kings Canyon National Parks, Planning and Compliance Office, 47050 Generals Highway, Three Rivers, CA 93271, or by e-mail addressed to seki_planning@nps.gov.

FOR FURTHER INFORMATION CONTACT: Christine Smith, 559-565-3105

SUPPLEMENTARY INFORMATION:

Comments

Before including an address, phone number, e-mail address or other personal identifying information in your comment, you should be aware that your entire comment including your personal identifying information may be made publicly available at any time. While you can ask us in your comment to withhold your personal identifying information from public review, we cannot guarantee that we will be able to do so. Anonymous comments will not be accepted.

Dated: February 9, 2009.
Daniel E. Blackwell,
Acting Superintendent, Sequoia and Kings Canyon National Parks.

[FR Doc. E9-7058 Filed 3-31-09; 8:45 am]

BILLING CODE 4310-X2-P